DEPARTMENT OF VETERANS AFFAIRS

[OMB Control No. 2900-0232]

Proposed Information Collection Activity: Application for Burial in a National Cemetery

AGENCY: National Cemetery Administration, Department of Veterans Affairs.

ACTION: Notice.

SUMMARY: In compliance with the Paperwork Reduction Act (PRA) of 1995, this notice announces that the National Cemetery Administration (NCA), Department of Veterans Affairs, will submit the collection of information abstracted below to the Office of Management and Budget (OMB) for review and comment. The PRA submission describes the nature of the information collection and its expected cost and burden and it includes the actual data collection instrument.

DATES: Comments must be submitted on or before September 4, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0232” in any correspondence.

FOR FURTHER INFORMATION CONTACT: Cynthia D. Harvey-Pryor, Enterprise Records Service (005R1B), Department of Veterans Affairs, 810 Vermont Avenue NW, Washington, DC 20420, (202) 461-5870 or email cynthia.harvey-pryor@va.gov. Please refer to “OMB Control No. 2900-0232” in any correspondence.

SUPPLEMENTARY INFORMATION: Authority: 44 U.S.C. 3501-21.

Title: Application for Burial in a National Cemetery.

OMB Control Number: 2900-0232.

Type of Review: Reinstatement, without change, of a previously approved collection.

Abstract: VA requires applicants for national cemetery burial to provide information to verify eligibility for burial in a national cemetery, to schedule interment and to provide services requested by the decedent's family or personal representative. This information is also used for planning and scheduling cemetery services and to provide for specific requests from family members or the personal representative, such as the request for funeral honors to be performed during committal or memorial services.

An agency may not conduct or sponsor, and a person is not required to respond to a collection of information unless it displays a currently valid OMB control number. The Federal Register Notice with a 60-day comment period soliciting comments on this collection of information was published at 83 FR 20160 on May 7, 2018.

Affected Public: Individuals and households.

Estimated Annual Burden: 33,750.

Estimated Average Burden per Respondent: 15 minutes.

Frequency of Response: One time.

Estimated Number of Respondents: 135,000.

By direction of the Secretary.
Cynthia D. Harvey-Pryor,
Department Clearance Officer, Office of Quality, Privacy and Risk, Department of Veterans Affairs.

[FR Doc. 2018-16628 Filed 8-2-18; 8:45 am]

BILLING CODE 8320-01-P